FEDERAL COMMUNICATIONS COMMISSION

47 CFR Part 73

[DA 00-2884; MM Docket No. 99-352; RM-9786]

Radio Broadcasting Services; Gaviota, CA

AGENCY: Federal Communications Commission.

ACTION: Proposed rule; denial.

SUMMARY: This document denies a petition filed by on behalf of Brian Costello (RM-9786), proposing the allotment of FM Channel 266A to Gaviota, California, as that locality's first local aural transmission service. See 64 FR 73461, December 30, 1999. The proposal is denied based upon the petitioner's failure to demonstrate that Gaviota constitutes a bona fide community, as that term is defined for purposes of Section 307(b) of the Communications Act, for allotment objectives.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 99-352, adopted December 13, 2000, and released December 22, 2000. The full text of this Commission decision is available for inspection and copying during normal business hours in the FCC's Reference Information Center (Room CY-A257), 445 Twelfth Street, SW., Washington, DC.

The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 00-33213 Filed 12-27-00; 8:45 am]

BILLING CODE 6712-01-P